DEPARTMENT OF TRANSPORTATION

Research and Special Programs Administration

49 CFR Part 195

[Docket No. RSPA-97-2762; Amdt. 195-76]

RIN 2137-AD24

Pipeline Safety: Pipeline Integrity Management in High Consequence Areas (Hazardous Liquid Operators With Less Than 500 Miles of Pipelines)

AGENCY: Research and Special Programs Administration (RSPA), U.S. Department of Transportation (DOT).

ACTION: Final rule; correction.

SUMMARY: In the Federal Register of January 16, 2002, (67 FR 2136) we published a Final Rule extending the regulations on managing the integrity of hazardous liquid and carbon dioxide pipelines that affect high consequence areas to operators with less than 500 miles of regulated pipelines. Inadvertently, the date after which prior integrity assessments may qualify for use was incorrectly stated. This document corrects that error.

DATES: This correction takes effect February 15, 2002.

FOR FURTHER INFORMATION CONTACT: L. M. Furrow by phone at 202-366-4559, by fax at 202-366-4566, by mail at U.S. Department of Transportation, 400 Seventh Street, SW., Washington, DC 20590, or by E-mail at buck.furrow@rspa.dot.gov.

SUPPLEMENTARY INFORMATION: We published a Final Rule document in the Federal Register of January 16, 2002, (67 FR 2136), extending the regulations on managing the integrity of hazardous liquid and carbon dioxide pipelines that affect high consequence areas to operators with less than 500 miles of regulated pipelines. In § 195.452(d)(2), the date after which prior assessments may qualify for use was incorrectly published as December 18, 2006. The correct date is February 15, 1997.

In FR Doc. 01-31655, published January 16, 2002, (67 FR 2136), make the following correction: On page 2144, correct the table in the second column by removing the date “December 18, 2006” and adding “February 15, 1997”, in its place.

Issued in Washington, D.C. on July 12, 2002.
Ellen G. Engleman,
Administrator.

[FR Doc. 02-18033 Filed 7-16-02; 8:45 am]

BILLING CODE 4910-60-P